DEPARTMENT OF THE INTERIOR

National Park Service

[NPS-WASO-NAGPRA-NPS0040115; PPWOCRADN0-PCU00RP14.R50000]

Notice of Intended Repatriation: North Carolina State University, Gregg Museum of Art & Design, Raleigh, NC

AGENCY: National Park Service, Interior.

ACTION: Notice.

SUMMARY: In accordance with the Native American Graves Protection and Repatriation Act (NAGPRA), the North Carolina State University, Gregg Museum of Art & Design (Gregg Museum) intends to repatriate a certain cultural item that meets the definition of an object of cultural patrimony and that has a cultural affiliation with the Indian Tribes or Native Hawaiian organizations in this notice.

DATES: Repatriation of the cultural item in this notice may occur on or after June 13, 2025.

ADDRESSES: Mary Hauser, North Carolina State University, Gregg Museum of Art & Design (Gregg Museum), 1903 Hillsborough Street, Campus Box 7330, Raleigh, NC 27695, telephone (919) 515-3102, email mehauser@ncsu.edu.

SUPPLEMENTARY INFORMATION: This notice is published as part of the National Park Service's administrative responsibilities under NAGPRA. The determinations in this notice are the sole responsibility of the Gregg Museum, and additional information on the determinations in this notice, including the results of consultation, can be found in the summary or related records. The National Park Service is not responsible for the determinations in this notice.

Abstract of Information Available

A total of one cultural item has been requested for repatriation. The one of object of cultural patrimony is a beaded Kiowa cradleboard, ca. 1880. This item came to the Gregg Museum as a part of an estate transfer from Chinqua-Penn, an estate in Reidsville, Rockingham County, NC. The owners of this estate traveled extensively, collecting artifacts from around the world. The owners of the estate died in 1946 and 1965 after which the estate was opened to the public. It was managed first by the University of North Carolina-Greensboro, and then by North Carolina State University in the mid-1980s. After Chinqua-Penn's sale to Calvin Phelps in 2006, artifacts that became on loan to the Gallery of Art & Design (now Gregg Museum of Art & Design) since 2003 were legally transferred to the collection of the Gregg Museum of Art & Design at North Carolina State University. Based on the time of acquisition and lack of information on how and where they were acquired, the Gregg Museum believes this item is possibly of cultural patrimony affiliated with the Kiowa Tribe. Gregg Museum records indicate no known hazardous substances.

Determinations

The Gregg Museum has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Kiowa Indian Tribe of Oklahoma.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after June 13, 2025. If competing requests for repatriation are received, the Gregg Museum must determine the most appropriate requestor prior to repatriation. Requests for joint repatriation of the cultural item are considered a single request and not competing requests. The Gregg Museum is responsible for sending a copy of this notice to the Indian Tribes and Native Hawaiian organizations identified in this notice and to any other consulting parties.

Authority: Native American Graves Protection and Repatriation Act, 25 U.S.C. 3004 and the implementing regulations, 43 CFR 10.9.

Dated: April 30, 2025.
Melanie O'Brien,
Manager, National NAGPRA Program.

[FR Doc. 2025-08469 Filed 5-13-25; 8:45 am]

BILLING CODE 4312-52-P